DEPARTMENT OF JUSTICE

National Institute of Corrections

Solicitation for a Cooperative Agreement—Training and Related Assistance for Indian Country Jails

AGENCY: National Institute of Corrections, U.S. Department of Justice.

ACTION: Solicitation for a Cooperative Agreement.

SUMMARY: The National Institute of Corrections (NIC) Jails Division is seeking applications for the provision of training and related assistance for Indian Country jails, including those operated by tribes and by the Bureau of Indian Affairs (BIA). The project will be for a three-year period and will be carried out in conjunction with the NIC Jails Division. The awardee will work closely with NIC staff on all aspects of the project.

To be considered, the applicant team collectively must have, at a minimum, (1) In-depth knowledge of the purpose, functions, and operational complexities of jails, (2) experience in working with Indian Country jails, (3) in-depth knowledge of the key elements of jail administration, as taught in NIC's Jail Administration training program, (4) expertise and experience with jail standards and inspections, (5) expertise and experience in conducting jail staffing analyses, and (6) experience in conducting training programs based on adult learning principles, specifically the Instructional Theory Into Practice (ITIP) model. The applicant team must include a curriculum specialist with expertise and experience in ITIP. The curriculum specialist will have a significant role in developing, reviewing, and revising the curriculum for the Jail Administration training program, as specified under “Scope of Work.”

DATES: Applications must be received by 4 p.m. (EDT) on Friday, August 12, 2011.

ADDRESSES: Mailed applications must be sent to: Director, National Institute of Corrections, 320 First Street, NW., Room 5002, Washington, DC 20534. Applicants are encouraged to use Federal Express, UPS, or similar service to ensure delivery by the due date as mail at NIC is sometimes delayed due to security screening.

Applicants who wish to hand-deliver their applications should bring them to 500 First Street, NW., Washington, DC 20534, and dial 202-307-3106, ext. 0, at the front desk for pickup.

Faxed or e-mailed applications will not be accepted. Electronic applications can be submitted only via http://www.grants.gov.

FOR FURTHER INFORMATION CONTACT: A copy of this announcement and Links to the required application forms can be downloaded from the NIC Web site at http://www.nicic.gov/cooperativeagreements.

Questions about this project and the application procedures should be directed to Ginny Hutchinson, Jails Division Chief, National Institute of Corrections. Questions must be sent via e-mail to Ms. Hutchinson at vhutchinson@bop.gov. Ms. Hutchinson will respond via e-mail to the individual. Also, all questions and responses will be posted on NIC's Web site at http://www.nicic.gov for public review. (The names of those submitting the questions will not be posted.) The Web site will be updated regularly and postings will remain on the Web site until the closing date of this cooperative agreement solicitation.

SUPPLEMENTARY INFORMATION: Background: The NIC Jails Division offers technical assistance, training, and information to jails nationwide, including Indian Country jails. NIC now wishes to target training and related services to Indian Country needs on jail administration, staffing analysis, and jail standards and inspection (specifically, peer review).

Services related to staffing analysis and jail administration will be based on NIC's existing materials, with adjustments made to accommodate any unique circumstances in Indian Country jails. The following reference materials are posted with this announcement on NIC's Web site: The Staffing Analysis Workbook for Jails, 2nd edition and the lesson plans and participant manual for the Jail Administration training program.

Scope of Work

Service #1: Jail Administration Training Program

Initial Review and Revision: The awardee will review and become familiar with the current curriculum. The awardee will discuss any questions with NIC staff.

The project director and curriculum specialist will meet with NIC staff, BIA staff, and up to 3 Indian Country jail administrators for up to 2 days in Washington, DC. The jail administrators will be identified jointly by NIC and BIA. NIC will pay the jail administrators' travel, lodging, and meal expenses. The BIA will pay travel, lodging, and meal expenses for its staff. The awardee will pay travel, lodging, and meal expenses for the project director and curriculum specialist.

Meeting participants will review the existing curriculum and identify content that does not apply to Indian Country jails and content that can be revised to be made applicable. NIC does not intend to develop a new program, nor does it intend to greatly change the basic program, which, based on past experience, is mostly relevant to Indian Country. However, NIC does expect that some revision will be necessary.

The awardee will revise the curriculum based on the results of the meeting, ensuring that all lesson plans conform to the ITIP model. The awardee will also develop an end-of-program participant evaluation, and will submit the revised curriculum and the evaluation to NIC for review and approval before conducting the program.

Initial Program Delivery: The awardee will conduct the revised Jail Administration training program, and the project director and curriculum specialist will attend. During the initial program, the project director and curriculum specialist will assess the program for any further revision needed.

The program will be up to 5 days long and will be conducted in a location central to most Indian Country jails, with a major airport nearby (no more than a 60-minute shuttle ride from the training site). There will be 3 trainers for the program. In the response to this solicitation, the applicant must identify a group of trainers who have given written assurance of their availability to teach, along with their qualifications. NIC does not require that the same 3 trainers conduct all programs.

There will be up to 30 participants in the program, including up to 4 persons identified by BIA as future trainers for the program. NIC will work with BIA to solicit applications and select participants. Participants will apply for the program through NIC.

The awardee will secure and pay for lodging and meals for the participants. Participants should be housed in single rooms. Meals will include dinner on the day of arrival and three meals for each of 5 full training days. NIC will pay for the participants' airfare or their mileage, if they choose to drive their personal vehicles.

The awardee will also secure and pay for training space (main room plus up to 3 breakout rooms); training equipment and supplies (such as equipment needed for slide presentations, chart pads and stands, chart markers, pens and paper for participants, masking tape, and other miscellaneous items); and refreshments (coffee, tea, juice, and soda). The main training room must easily accommodate 30 participant seats arranged in clusters of 6 around circular or rectangular tables, with a chart pad and stand at each table. Each table should provide sufficient space for the participants' manuals and other materials, with ample space to write. The main training room must also accommodate a large rectangular table for the trainers and space for the training equipment. Finally, it should be arranged so that trainers can easily move among the participant tables.

The awardee will hire and pay fees and expenses for 3 trainers, the project director, and the curriculum specialist, all of whom will stay for the entire program. If qualified, the project director may be included as one of the 3 trainers.

The awardee will print the participant manuals, instructor manuals, evaluation forms, and all other materials for the program, and assume the cost of printing. Additional Revision: Based on the assessment of the first program, the awardee will further revise the training program to ensure its applicability to Indian Country jails and conformity to the ITIP model. All draft revisions must be sent to NIC for review and approval before the second program is conducted.

Additional Program Delivery: The awardee will conduct the Jail Administration training program 3 more times during the course of the cooperative agreement. See “Initial Program Delivery” for the awardee's responsibilities. Note that the curriculum specialist is not required to attend all three of these programs. The applicant should, however, plan for the curriculum specialist to attend at least one of the programs in case there is need for his/her expertise.

Final Materials: The awardee will deliver a full curriculum, including a program description (overview); detailed narrative lesson plans; presentation slides for each lesson plan; a participant manual that follows the lesson plans; and other training materials as identified through this project. The curriculum will be designed according to the ITIP model for adult learners. Lesson plans will be in a format that NIC provides. Materials must be proofread and edited for grammar, spelling, punctuation, formatting, and clarity. The awardee will deliver all materials in hard copy (2) and on a disk (2). The awardee must ensure that all products meet NIC's standards for accessibility and Section 508 compliance.

BIA Trainer Development: NIC intends to share the completed curriculum with BIA for its use in training jail administrators. As noted above, the BIA will identify potential trainers who will attend the programs conducted under this cooperative agreement. The first time these potential trainers attend, they will observe the program. The second time, the awardee will give them limited responsibility, such as facilitating small groups. The third and fourth times, the awardee will give them training assignments so they are better prepared to instruct on their own. Even though they will gradually assume some training responsibilities, they are considered participants in each of the 4 programs for funding purposes.

Attendance at a BIA-Conducted Program: The awardee will send two members of the cooperative agreement's training team to the first Jail Administration program conducted by BIA. This program will most likely be held at the Indian Police Academy in Artesia, New Mexico. The awardee will pay fees and expenses for these trainers. Their role will be to provide assistance and feedback as needed to the BIA trainers.

Service #2: Staffing Analysis

Workshop: The awardee will conduct one workshop on staffing analysis for up to 12 BIA staff. This will be based on NIC's “Staffing Analysis Workbook for Jails, 2nd edition,” and will last up to 3 days. The workshop will include staffing analysis for operating jails and for jails in various stages of planning. The workshop will focus not only on the staffing analysis process, but also on effectively presenting the results to the funding authority.

The purpose of this workshop is to develop a cadre of BIA staff who can conduct staffing analyses for jails and prepare staffing reports and justifications. These BIA staff could also help jail staff conduct their own staffing analyses.

The awardee will confer with NIC and BIA staff on workshop development, either in person or through conference calls or online meetings. The awardee will then develop the lesson plans, presentation slides, and participant materials, and send these materials to NIC for review and approval before conducting the workshop.

After the workshop, the awardee will submit final copies of all materials, with a participant list, to NIC. These materials will be submitted on a disk.

The awardee will pay fees and expenses for 2 trainers. These trainers will be identified jointly by NIC and the awardee after the cooperative agreement is awarded. The awardee will print all workshop materials and assume the cost for printing. BIA will supply the necessary room and equipment for the workshop, and assume costs related to the participants' travel, lodging, and meals.

Additional Assistance: Once the workshop is completed, the awardee will send one trainer to accompany BIA staff in conducting a staffing analysis for up to 3 jails or new-jail planning projects identified by the BIA. The trainer will provide guidance and support as needed to the BIA staff, but will not conduct the staffing analysis or write the report. The awardee will pay fees and expenses for the trainer assigned to each staffing analysis. The BIA will cover expenses for its staff.

Service #3: Jail Standards and Inspection (Peer Review)

Based on standards it has adopted, BIA has a formal inspection process, but it also wishes to develop a peer review process. The awardee will work with BIA and NIC staff to develop a peer review protocol, with related forms and other materials.

The awardee will then develop and conduct one workshop on the peer review process, and submit all workshop materials to NIC for review and approval before the program is conducted.

After the workshop, the awardee will submit final copies of all materials, with a participant list, to NIC. These materials will be submitted on a disk.

The workshop will last up to 5 days and will be conducted by 2 to 3 trainers. These trainers will be identified jointly by NIC and the awardee after the cooperative agreement is awarded. BIA will identify up to 15 participants for this program.

The workshop will combine classroom sessions with practical exercises inside an Indian Country jail. BIA and NIC will identify a jail willing to allow participants to practice conducting a review.

The classroom sessions will be held in a suitable room inside the jail or, if no room is available, at a site within short driving distance to the jail. The awardee should not assume a room will be available in the jail and should plan to pay for a room at a hotel for the workshop, in addition to related equipment and supplies.

The awardee will pay all fees and expenses for the trainers. The awardee will also print all workshop materials and assume the cost.

The awardee will secure a hotel for the participants' lodging and will arrange for meals to be provided by the hotel, including dinner on the day of arrival and 3 meals for each full training day. The awardee will assume the cost of the participants' lodging and meals at this site. Participants should be lodged in single rooms.

NIC will pay for participants' travel. BIA will arrange for transportation between the hotel and the jail, if needed.

Project Kick-Off Meeting

The project director will attend an initial meeting in Washington, DC with NIC staff for a project overview and preliminary planning. The meeting will last up to two days. The awardee will pay the project director's fees and expenses for this meeting.

Project Timelines

The applicant must plan project activities based on several considerations. First, the staffing analysis workshop should be conducted during the first year of the cooperative agreement period. Second, the awardee will assist BIA staff in conducting three staffing analysis projects within 3 months or less after the workshop. Third, the Jail Administration training program should be conducted once during the first year, twice during the second year, and once during the third year. Fourth, BIA will conduct Jail Administration during the third year, with assistance from the awardee. Fifth, work on the peer review process for standards compliance should begin before the end of the first year of the cooperative agreement. Finally, project timelines must include provision for submission of materials to NIC for review and approval, as specified in this solicitation.

Application Requirements: An application package must include OMB Standard Form 424, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at http://www.grants.gov); DOJ/FBOP/NIC Certification Regarding Lobbying, Debarment, Suspension and Other Responsibility Matters; and the Drug-Free Workplace Requirements (available at http://www.nicic.org/Downloads/PDF/certif-frm.pdf.)

Applications should be concisely written, typed double spaced, and reference the NIC opportunity number and title referenced in this announcement. If you are hand delivering or submitting via Fed-Ex, please include an original and three copies of your full proposal (program and budget narrative, application forms, assurances and other descriptions). The original should have the applicant's signature in blue ink. Electronic submissions will be accepted only via http://www.grants.gov.

The narrative portion of the application should include, at a minimum: a brief paragraph indicating the applicant's understanding of the project's purpose; a brief paragraph that summarizes the project goals and objectives; a clear description of the methodology that will be used to complete the project and achieve its goals; a statement or chart of measurable project milestones and timelines for the completion of each milestone; a description of the qualifications of the applicant organization; a resume for the principle and each staff member assigned to the project (including instructors) that documents relevant knowledge, skills, and abilities to carry out the project; and a budget that details all costs for the project, shows consideration for all contingencies for the project, and notes a commitment to work within the proposed budget.

In addition to the narrative and attachments, the applicant must submit two full sample curricula developed by the primary curriculum developer named in the application. For each sample curriculum, the applicant must submit lesson plans, presentation slides, and a participant manual.

Authority: Public Law 93-415.

Funds Available: NIC is seeking the applicant's best ideas regarding accomplishment of the scope of work and the related costs for achieving the goals of this solicitation. Funds may be used only for the activities that are linked to the desired outcome of the project. The funding amount should not exceed $500,000.

Eligibility of Applicants: An eligible applicant is any state or general unit of local government, private agency, educational institution, organization, individual, or team with expertise in the described areas. Applicants must have demonstrated ability to implement a project of this size and scope.

Review Considerations: Applications will be subject to the NIC Review Process. The criteria for the evaluation of each application will be as follows:

Project Design and Management: Is there a clear understanding of the purpose of the project and the nature and scope of project activities? Does the applicant give a clear and complete description of all work to be performed for this project? Does the applicant clearly describe a work plan, including objectives, tasks, and milestones necessary to project completion? Are the objectives, tasks, and milestones realistic and will they achieve the project as described in NIC's solicitation for this cooperative agreement? Are the roles and the time required of project staff clearly defined? Is the applicant willing to meet with NIC staff, at a minimum, as specified in the solicitation for this cooperative agreement?

Applicant Organization and Project Staff Background: Is there a description of the background and expertise of all project personnel as they relate to this project? Is the applicant capable of managing this project? Does the applicant have an established reputation or skill that makes the applicant particularly well qualified for the project? Do primary project personnel, individually or collectively, have in-depth knowledge of the purpose, functions, and operational complexities of local jails? Do the primary project personnel, individually or collectively, have expertise and experience specified in the “Summary” section of this Request for Proposal? Does the staffing plan propose sufficient and realistic time commitments from key personnel? Are there written commitments from proposed staff that they will be available to work on the project as described in the application?

Budget: Does the application provide adequate cost detail to support the proposed budget? Are potential budget contingencies included? Does the application include a chart that aligns the budget with project activities along a timeline with, at a minimum, quarterly benchmarks? In terms of program value, is the estimated cost reasonable in relation to work performed and project products?

Sample Curricula: Do the sample curricula include all components specified in the RFP (lesson plans, presentation slides, and participant manual)? Are the lesson plans designed according to the ITIP model? Does each lesson plan have performance objectives that describe what the participants will accomplish during the module? Are the lesson plans detailed, clear, and well written (spelling, grammar, punctuation)? Is the participant manual clear, and does it follow the lesson plans? Do the presentation slides effectively illustrate information in the lesson plans? Do the presentation slides have a professional appearance, and can they be easily read from a distance of 30 to 40 feet?

Note: NIC will NOT award a cooperative agreement to an applicant who does not have a Dun and Bradstreet Database Universal Number (DUNS) and is not registered in the Central Contractor Registry (CCR). Applicants can obtain a DUNS number at no cost by called the dedicated toll-free DUNS number request line at 800-333-0505. Applicants who are sole proprietors should dial 866-705-5711 and select option #1.

Applicants may register in the CCR online at the CCR Web site at http://www.ccr.gov. Applicants can also review a CCR handbook and worksheet at this Web site.

Number of Awards: One.

NIC Opportunity Number: 11JA06. This number should appear as a reference line in the cover letter, where the opportunity number is requested on Standard Form 424, and on the outside of the envelope in which the application is sent.

Catalog of Federal Domestic Assistance Number: 16.601

Executive Order 12372: This project is not subject to the provisions of the executive order.

Thomas J. Beauclair,
Deputy Director, National Institute of Corrections.

[FR Doc. 2011-18614 Filed 7-22-11; 8:45 am]

BILLING CODE 4410-36-P